FEDERAL ACCOUNTING STANDARDS ADVISORY BOARD

Notice of Request for Comment on the Annual Report for Fiscal Year 2020 and Three-Year Plan

AGENCY: Federal Accounting Standards Advisory Board.

ACTION: Notice.

FOR FURTHER INFORMATION CONTACT: Ms. Monica R. Valentine, Executive Director, 441 G Street NW, Suite 1155, Washington, DC 20548, or call (202) 512-7350.

SUPPLEMENTARY INFORMATION: Pursuant to 31 U.S.C. 3511(d), the Federal Advisory Committee Act, as amended (5 U.S.C. App.), and the FASAB Rules Of Procedure, as amended in October 2010, notice is hereby given that the Federal Accounting Standards Advisory Board (FASAB) has issued its Annual Report for Fiscal Year 2020 and Three-Year Plan.

The Annual Report for Fiscal Year 2020 and Three-Year Plan is available on the FASAB website at https://www.fasab.gov/our-annual-reports/. Copies can be obtained by contacting FASAB at (202) 512-7350.

Respondents are encouraged to comment on the content of the annual report, FASAB's project priorities for the next three years, and the potential projects the Board will consider moving forward. Written comments are requested by January 21, 2021, and should be sent to fasab@fasab.gov or Ms. Monica R. Valentine, Executive Director, Federal Accounting Standards Advisory Board, 441 G Street NW, Suite 1155, Washington, DC 20548.

Authority: Federal Advisory Committee Act (5 U.S.C. App.), 31 U.S.C. 3511(d).

Dated: December 8, 2020.
Monica R. Valentine,
Executive Director.

[FR Doc. 2020-27566 Filed 12-14-20; 8:45 am]

BILLING CODE 1610-02-P